COMMISSION ON CIVIL RIGHTS

Notice of Public Meetings of the Puerto Rico Advisory Committee to the U.S. Commission on Civil Rights

AGENCY: Commission on Civil Rights.

ACTION: Announcement of meetings.

SUMMARY: Notice is hereby given, pursuant to the provisions of the rules and regulations of the U.S. Commission on Civil Rights (Commission), and the Federal Advisory Committee Act (FACA), that meetings of the Puerto Rico Advisory Committee to the Commission will convene by virtual web conference on Tuesday, July 16, 2024, and Thursday, August 22, 2024, both at 3:30 p.m. Atlantic Time/Eastern Time. The purpose is to discuss their project on the civil rights impacts of the Insular Cases in Puerto Rico.

DATES: July 16, 2024, Tuesday, at 3:30 p.m. Atlantic Time (3:30 p.m. ET)

August 22, 2024, Thursday, at 3:30 p.m. Atlantic Time (3:30 p.m. ET)

ADDRESSES: Meetings will be held via Zoom.

• July 16 Registration Link (Audio/Visual): https://tinyurl.com/4xamnsrh; Passcode, if needed: USCCR-PR

○ July 16 Phone Only: 1-833 435 1820 USA Toll Free; Meeting ID: 161 623 8480 #

• August 22 Registration Link (Audio/Visual): https://tinyurl.com/yckp2hn7; Passcode, if needed: USCCR-PR

○ August 22 Phone Only: 1-833 435 1820 USA Toll Free; Meeting ID: 161 854 7453 #

FOR FURTHER INFORMATION CONTACT: Email Victoria Moreno, Designated Federal Officer at vmoreno@usccr.gov, or by phone at 434-515-0204.

SUPPLEMENTARY INFORMATION: This meetings will take place in Spanish with English interpretation. Committee meetings are available to the public through the registration link above. Any interested member of the public may listen committee meetings. For all meetings, open comment periods are provided to allow members of the public to make statements as time allows. Per the Federal Advisory Committee Act, public minutes of meetings will include a list of persons who are present at meetings. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email ebohor@usccr.gov at least 10 business days prior to meeting dates.

Members of the public are entitled to submit written comments; the comments must be received in the regional office within 30 days following meeting dates. Written comments may be emailed to Victoria Moreno at vmoreno@usccr.gov. Persons who desire additional information may contact the Regional Programs Coordination Unit at 1-312-353-8311.

Records generated from meetings may be inspected and reproduced at the Regional Programs Coordination Unit Office, as they become available, both before and after meetings. Records of meetings will be available via www.facadatabase.gov under the Commission on Civil Rights, Puerto Rico Advisory Committee link. Persons interested in the work of this Committee are directed to the Commission's website, http://www.usccr.gov, or may contact the Regional Programs Coordination Unit at ebohor@usccr.gov.

Agenda

1. Welcome & Roll Call

2. Committee Discussion on Project Regarding the Civil Rights Impacts of the Insular Cases in Puerto Rico

3. Next Steps

4. Public Comment

5. Other Business

6. Adjourn

Dated: June 21, 2024.
David Mussatt,
Supervisory Chief, Regional Programs Unit.

[FR Doc. 2024-13993 Filed 6-25-24; 8:45 am]

BILLING CODE P